DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Independent Evaluation of the Substance Abuse Prevention and Treatment Block Grant Program—NEW

The Substance Abuse and Mental Health Services Administration (SAMHSA), Center for Substance Abuse Treatment (CSAT), Division of State and Community Assistance administers the Substance Abuse Prevention and Treatment Block Grant (SAPT BG) in collaboration with the Center for Substance Abuse Prevention (CSAP), Division of State Programs. The Substance Abuse Prevention and Treatment Block Grant is funded by Congress to provide monies to States, Territories, and one Native American Tribe for the purpose of planning, carrying out, and evaluating activities to prevent and treat substance abuse and other allowable activities. The SAPT BG constitutes approximately 40 percent of all States budgets for substance abuse prevention and treatment services and activities, and is the primary Federal source of funding. States have flexibility in determining how funds should be allocated, but there are specific set-aside and maintenance of effort requirements that must be met in order to receive funding. These requirements, introduced by both the ADAMHA Reorganization Act of 1992 and the Children's Health Act of 2000, are listed below:

Table 1.—SAPT BG Set-Aside Provisions ᵃ
Category | Set-aside provision
Prevention and treatment activities regarding alcohol | Not less than 35 percent of SAPT BG funding*.
Prevention and treatment activities regarding other drugs | Not less than 35 percent of SAPT BG funding*.
Primary prevention programs | Not less than 20 percent of SAPT BG funding.
Pregnant women and women with dependent children | Not less than amount equal to expenditure in FY 1994.
Tuberculosis services | No set amount but services must be provided to receive SAPT BG funds.
HIV services ᵇ | No more than 5 percent increase over State allotment for HIV services in FY 1991.
Prohibition of sale of tobacco to individuals under age of 18 (Synar amendment) | State must enforce law against sale of tobacco to underage individuals to receive SAPT BG funds—noncompliance leads to a 10 percent reduction in funds the first applicable fiscal year; 20 percent, the second year; 30 percent, the third year; and 40 percent, the fourth year.
Maintenance of effort (MOE) for State expenditures | State will maintain funding at no less than the average level of expenditures for the 2 years preceding the fiscal year for which the State is applying.
Administrative expenses | Limited to 5 percent of SAPT BG funding.
ᵃ These set-asides shown in this table were included in the 1992 SAPT BG authorizing legislation 42 U.S.C. 300x-21 to 42 U.S.C. 300x-62). In the Children's Health Act of 2000 (Pub. L. 106-310) Sec. 3303(a)(1)), however, the set-asides marked with asterisks were removed.
ᵇ For designated States whose rate of AIDS cases is 10 or more per 100,000 individuals as confirmed by the Centers for Disease Control and Prevention.

In addition to the set-asides, the SAPT BG Program has identified 17 goals which must be met by States in order to receive this Federal funding:

Table 2.—Federal Goals for the Substance Abuse Prevention and Treatment Block Grant
GOAL #1: Continuum of substance abuse treatment services | The State shall expend block grant funds to maintain a continuum of substance abuse treatment services that meet these needs for the services identified by the state (see 42 U.S.C. 300x-21(b) and 45 CFR 96.122(f)(g)).
GOAL #2: Spending on primary prevention programs | The State agrees to spend not less than 20 percent on primary prevention programs for individuals who do not require treatment for substance abuse, specifying the activities proposed for each of the six strategies (see 42 U.S.C. 300x-22(b)(1) and 45 CFR 96.124(b)(1)).
GOAL #3: Spending on services for pregnant women and children | The State agrees to expend not less than an amount equal to the amount expended by the State for FY 1994 to establish new programs or expand the capacity of existing programs to make available treatment services designed for pregnant women and children with dependent children; and, directly or through arrangements with other public or nonprofit entities, to make available prenatal care to women receiving such treatment services, and, while the women are receiving services, child care (see 42 U.S.C. 300x-22(c)(1) and 45 CFR 96.124(c)(e)).
GOAL #4: Treatment for intravenous drug abusers | The State agrees to provide treatment to intravenous drug abusers that fulfills the 90 percent capacity reporting, 14-120 day performance requirement, interim services, outreach activities and monitoring requirements (see 42 U.S.C. 300x-23 and 45 CFR 96.126).
GOAL #5: Tuberculosis services for people in substance abuse treatment | The State agrees, directly or through arrangements with other public or nonprofit private entities, to routinely make available tuberculosis services to each individual receiving treatment for substance abuse and to monitor such service delivery (see 42 U.S.C. 300x-24 and 45 CFR 96.127).
GOAL #6: Early intervention services for HIV for people in substance abuse treatment | Designated States agree to provide treatment for persons with substance abuse problems with an emphasis on making available within existing programs early intervention services for HIV in areas of the state that have the greatest need for such services and to monitor such service delivery (see 42 U.S.C. 300x-24(b) and 45 CFR 96.128).
GOAL #7: Group homes for recovering substance abusers | Designated States agree to provide for and encourage the development of group homes for recovering substance abusers through the operation of a revolving loan fund (see 42 U.S.C. 300x-25 and 45 CFR 96.129).
GOAL #8: State efforts to reduce the availability of tobacco products | The State agrees to continue to have in effect a State law that makes it unlawful for any manufacturer, retailer, or distributor of tobacco products to sell or distribute any such product to any individual under the age of 18; and, to enforce such laws in a manner than can reasonably be expected to reduce the extent to which tobacco products are available to individuals under age 18 (see 42 U.S.C. 300x-26 and 45 CFR 96.130).
GOAL #9: Preferential admission of pregnant women to substance abuse treatment | The State agrees to ensure that each pregnant woman be given preference in admission to treatment facilities; and, when the facility has insufficient capacity, to ensure that the pregnant woman be referred to the State, which will refer the woman to a facility that does have the capacity to admit the woman, or if no such facility has the capacity to admit the woman, will make available interim services within 48 hours (see 42 U.S.C. 300x-27 and 45 CFR 96.131).
GOAL #10: Improved process for referring individuals to substance abuse treatment | The State agrees to improve the process in the State for referring individuals to the treatment modality that is most appropriate for the individual (see 42 U.S.C. 300x-28 and 45 CFR 96.132(a)).
GOAL #11: Continuing education for employees at substance abuse prevention and/or treatment facilities | The State agrees to provide continuing education for the employees of facilities which provide prevention activities or treatment services (or both) (see 42 U.S.C. 300x-28(b) and 45 CFR 96.132(b)).
GOAL #12: Coordination of services | The State agrees to coordinate prevention activities and treatment services with the provision of other appropriate services (see 42 U.S.C. 300x-28(c) and 45 CFR 96.132(c)).
GOAL #13: Needs assessment by State and locality | The State agrees to submit an assessment of the need for both treatment and prevention in the State for authorized activities, both by locality and by the State in general (see 42 U.S.C. 300x-29 and 45 CFR 96.133).
GOAL #14: Ensuring that needles and syringes are not provided for illegal drug use | The State agrees to ensure that no program funded through the block grant will use funds to provide individuals with hypodermic needles or syringes so that such individuals may use illegal drugs (see 42 U.S.C. 300x-31(a)(1)(F) and 45 CFR 96.135(a)(6)).
GOAL #15: Improving the quality and appropriateness of treatment services | The State agrees to assess and improve, through independent peer review, the quality and appropriateness of treatment services delivered by provider that receive funds from the block grant (see 42 U.S.C. 300x-53(a) and 45 CFR 96.136).
GOAL #16: Protecting patient records from inappropriate disclosure | The State agrees to ensure that the State has in effect a system to protect patient records from inappropriate disclosure (see 42 U.S.C. 300x-53(b), 45 CFR 6.132(e), and 42 CFR part 2).
GOAL #17: Compliance with 42 CFR part 54 Charitable Choice Provisions and Regulations | The State agrees to ensure that the State has in effect a system to comply with 42 CFR part 54 (see 42 CFR 54.8(c)(4) and 54.8(b)) Charitable Choice Provisions and Regulations).
Source: Performance Partnership Grant Branch, Division of State and Community Assistance, Center for Substance Abuse Treatment, Substance Abuse and Mental Health Services Administration, “Uniform Application, FY 2007, Substance Abuse Prevention and Treatment Block Grant (42 U.S.C. 300x-21 through 300x-64),” Rockville, MD, 2004.

The FY 2003 Office of Management and Budget (OMB) Program Assessment Rating Tool (PART) assessment of the SAPT BG Program rated the program as “Ineffective.” The SAPT BG received high scores on three of four PART areas rated, including Program Purpose and Design, Strategic Planning, and Program Management. However, the scores could have been even higher in these areas if data were available to document that the resources were reaching the intended beneficiaries or the program had ambitious targets and long-term measures. In the fourth area, Program Results/Accountability, where a low rating was achieved, it was found that “no independent evaluation of the program has been completed” to establish that the SAPT BG Program is effective and fulfilling its legislative mandates.

In direct response to this OMB finding, a contract was developed and awarded in FY 2003 to conduct an Evaluability Assessment (EA) to determine the feasibility of conducting an independent evaluation of the SAPT BG Program, and subsequently, to fund such an evaluation effort. EA is a recognized program evaluation methodology which involves collaboration with multiple stakeholders and development of a program logic model used to plan formal evaluations of large and/or complex programs, such as the SAPT BG Program. The findings of the EA were used as a foundation in the development and awarding of a multi-year contract in FY 2004 to conduct an independent, comprehensive evaluation of the SAPT BG Program.

As noted in the OMB PART Assessment, the legislative intent of the SAPT BG is to provide funding to States by formula to plan, carry out, and evaluate activities to prevent and treat substance abuse. Therefore, the evaluation is designed to examine the system-level activities, outputs, and outcomes associated with the program in relation to its goals.

In this evaluation, a multi-method evaluation approach is being used to examine Federal and State performance with regard to the SAPT BG and its identified goals. This approach emphasizes a qualitative and quantitative examination of both the SAPT BG process (e.g., activities and outputs in the logic model) and system-level outcomes whereby Federal and State stakeholder perspectives on the SAPT BG, as captured through semi-structured interviews and surveys, are corroborated and compared to the considerable amount of already-collected source documents and data provided by States, CSAT, and CSAP (e.g., Web Block Grant Application System (BGAS), Treatment Episode Data Set (TEDS), National Survey on Drug Use and Health (NSDUH), the Minimum Data Set (MDS), Technical Review Reports, State Prevention and Synar System Reports).

The purpose of the evaluation is to determine the extent to which States and the Federal Government are implementing the SAPT BG according to the authorizing legislation and implementing regulations. The evaluation will cover the following domains: The State SAPT BG planning process, Federal review of SAPT BG applications including annual reports, progress reports and intended use plans, Federal technical assistance, State SAPT BG implementation, Federal oversight and management, State SAPT BG reporting, and State-level outcomes. The results of this evaluation will not only document the effectiveness of the SAPT BG Program in supporting the Substance Abuse Prevention and Treatment system, they will also help guide CSAT and CSAP and the States to improve the methods by which they implement the SAPT BG, including the capacity to collect, analyze, and interpret the National Outcome Measures (NOMs). As a separate, parallel SAMHSA initiative, the NOMs project began after the SAPT BG Evaluation contract inception and was not used in the SAPT BG EA or the development of the evaluation framework and logic model. However, selected NOMs items that relate to the evaluation framework and logic model will be examined in the independent evaluation. These selected NOMs items include:

• Increase in number of persons reporting a reduction in 30-day drug/alcohol use

• Increase in number of persons employed or in school

• Reduction in number of drug or alcohol-related arrests

• Increase in number of persons in stable housing situations (reduction in homelessness)

• Increase in access to services measured by unduplicated counts of persons served and numbers served compared to those in need

• Increase in number of persons receiving evidence-based services.

In addition, the evaluators will attempt to collect information on system-wide client perception of care. Statistical tests for association between outcome measures and a number of independent variables will be conducted. Examples of independent variables include, but are not limited to, level of funding, level of the Single State Agency (SSA) for substance abuse services within State government, degree of SSA partnership with other State agencies and community organizations, and amount of State-funded support available for research and training activities.

In addition to information about the selected NOMs domains, the evaluation will also examine systemic measures related to infrastructure. Infrastructure refers to the resources, systems, and policies that support the nation's public substance abuse prevention and treatment system, and is a potential contributor to significant State behavioral health system outcomes. Examples of infrastructure include staff training, policy changes, and service availability.

Because this is the first-ever comprehensive evaluation of the SAPT BG Program, the data collection activities are more extensive (and time intensive) than would be expected of a program that has been regularly evaluated. These data will serve as a baseline for future evaluations. The two primary data collection strategies will include open-ended interviews and web-based surveys. Interviews will be conducted with Federal staff involved in the administration of the SAPT BG and State staff from all States and Territories involved in their State's implementation of the SAPT BG Program. Two web-based surveys will be administered to all individuals who formally participate in monitoring the SAPT BG as part of the Technical Review or State Prevention and Synar System Review Teams.

The interview protocol for Federal staff includes 80 questions (mostly open-ended), and, on average, should take 90 minutes to complete. The interview protocol for the State staff includes 99 questions (again, mostly open-ended), and should take, on average, 3 hours to complete. Both the Federal staff interviews and the State staff interviews will be conducted as in-person interviews. While the Federal staff will each be interviewed individually, a single group State staff interview will be conducted for all relevant State staff. The SSA Directors will be asked to select those State staff who they believe are most knowledgeable about the SAPT BG for participation in the interviews. It is anticipated that, at a minimum, the State Planner, the State Data Analyst, the State Prevention Lead, the State Treatment Lead, one additional State staff member, and the State SSA Director will participate.

The two web-based surveys will be distributed to the two current sets of formal reviewers for the SAPT BG: Technical Reviewers and State Prevention and Synar System Reviewers. The web-based surveys are designed so that each stakeholder group receives survey questions designed to capture their specific knowledge of and experience with the SAPT BG. The Technical Reviewer survey contains 47 questions and the State Prevention and Synar System Reviewer survey has 27 questions. Each survey should take approximately 1 hour or less to complete. Reviewers will submit their responses to the survey online over a 3-week period.

Table 3 summarizes the estimated annual total burden hours for the in-person and web-based surveys for the Federal and State staff stakeholders and Technical Reviewers, Synar Reviewers.

Table 3.—Estimated Reporting Burden of Interviews and Web-Based Surveys
Respondents | Number of respondents | Average hours per interview/survey | Estimated total burden (hours)
In-person Interviews:
State Substance Abuse Prevention and Treatment Agency Commissioner | 60 | 3 | 180
State Planners | 60 | 3 | 180
State Data Analysts | 60 | 3 | 180
State Prevention Lead | 60 | 3 | 180
State Treatment Lead | 60 | 3 | 180
Additional State Staff | 60 | 3 | 180
Federal SAPT Block Grant Staff | 35 | 1.5 | 52.5
Subtotal | 395 |  | 1,132
Web-based Interviews:
Technical Reviewers | 15 | 1 | 15
State Prevention and Synar System Reviewers | 30 | 1 | 30
Subtotal | 45 |  | 45
Total | 440 |  | 1,177

This Federal Register Notice is focused on the interviews and surveys that will be administered to the SAPT BG stakeholders as those methods of data collection require OMB approval. It is anticipated that in future independent evaluations of the SAPT BG Program focus will be given to the NOMs and their implications for program performance and goals.

Written comments and recommendations concerning the proposed information collection should be sent by October 22, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: September 12, 2007.
Elaine Parry,
Acting Director, Office of Program Services.

[FR Doc. E7-18555 Filed 9-19-07; 8:45 am]

BILLING CODE 4162-20-P